DEPARTMENT OF TRANSPORTATION

Federal Aviation Administration

14 CFR Part 39

[Docket No. FAA-2011-0225; Directorate Identifier 2010-NM-211-AD]

RIN 2120-AA64

Airworthiness Directives; Airbus Model A330-200 and -300 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

* * * * *

The airworthiness limitations applicable to the Safe Life Airworthiness Limitation Items (SL ALI) are given in Airbus A330 ALS Part 1 and A340 ALS Part 1, which are approved by the European Aviation Safety Agency (EASA).

The revision 05 of Airbus A340 ALS Part 1 introduces more restrictive maintenance requirements and/or airworthiness limitations. Failure to comply with this revision constitutes an unsafe condition.

For A330 aeroplanes, this EASA AD retains the requirements of EASA AD 2010-0131, which it supersedes.

For A340 aeroplanes, this EASA AD supersedes EASA AD 2009-0192, and requires the implementation of the new or more restrictive maintenance requirements and/or airworthiness limitations as specified in Airbus A340 ALS Part 1, revision 05.

The unsafe condition is fatigue cracking, damage, and corrosion in certain structure, which could result in reduced structural integrity of the airplane. The proposed AD would require actions that are intended to address the unsafe condition described in the MCAI.

DATES: We must receive comments on this proposed AD by May 6, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2011-0225; Directorate Identifier 2010-NM-211-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0253, dated December 3, 2010 (referred to after this as “the MCAI”), to correct an unsafe condition for the specified products. The MCAI states:

The airworthiness limitations are currently distributed in the Airbus A330 Airworthiness Limitations Section (ALS) and A340 ALS.

The airworthiness limitations applicable to the Safe Life Airworthiness Limitation Items (SL ALI) are given in Airbus A330 ALS Part 1 and A340 ALS Part 1, which are approved by the European Aviation Safety Agency (EASA).

The revision 05 of Airbus A340 ALS Part 1 introduces more restrictive maintenance requirements and/or airworthiness limitations. Failure to comply with this revision constitutes an unsafe condition.

For A330 aeroplanes, this EASA AD retains the requirements of EASA AD 2010-0131, which it supersedes.

For A340 aeroplanes, this EASA AD supersedes EASA AD 2009-0192, and requires the implementation of the new or more restrictive maintenance requirements and/or airworthiness limitations as specified in Airbus A340 ALS Part 1, revision 05.

The unsafe condition is fatigue cracking, damage, and corrosion in certain structure, which could result in reduced structural integrity of the airplane. You may obtain further information by examining the MCAI in the AD docket.

Relevant Service Information

Airbus has issued A330 ALS Part 1, “Safe Life Airworthiness Limitation Items,” Revision 05, dated July 29, 2010. The actions described in this service information are intended to correct the unsafe condition identified in the MCAI.

Related Rulemaking

On April 20, 2006, we issued AD 2006-09-07, Amendment 39-14577 (71 FR 25919, May 3, 2006), that applies to Airbus Model A330-200 and -300 series airplanes and Model A340-200, -300, -500, and -600 series airplanes. That AD requires revising the airworthiness limitations section of the instructions for continued airworthiness to incorporate new information. This NPRM would include the requirements of paragraph (f)(2) of AD 2006-09-07 for Model A330 airplanes.

Additionally, on February 3, 2011, we issued AD 2011-04-06, Amendment 39-16606 (76 FR 8610, February 15, 2011), for Airbus Model A340-200, -300, -500, and -600 series airplanes, to require revising the maintenance program. Doing this revision terminates the requirements of AD 2006-09-07 for Model A340 airplanes.

We are also considering issuance of another NPRM related to this NPRM. The NPRM we are considering, Directorate Identifier 2010-NM-210-AD, would supersede AD 2006-09-07 and would restate the requirements of paragraph (f)(1) of AD 2006-09-07.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 55 products of U.S. registry.

The actions that are required by AD 2006-09-07, take about 1 work-hour per product, at an average labor rate of $85 per work hour. Based on these figures, the estimated cost of the currently required actions is $85 per product.

We estimate that it would take about 1 work-hour per product to comply with the requirements of this proposed AD. The average labor rate is $85 per work-hour. Based on these figures, we estimate the cost of the proposed AD on U.S. operators to be $4,675, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2011-0225; Directorate Identifier 2010-NM-211-AD.

Comments Due Date

(a) We must receive comments by May 6, 2011.

Affected ADs

(b) AD 2006-09-07, Amendment 39-14577, is affected by this AD. The requirements of paragraph (f)(2) of AD 2006-09-07 for Airbus Model A330 airplanes are restated in this AD.

Applicability

(c) This AD applies to Airbus Model A330-201, -202, -203, -223, -223F, -243, and -243F airplanes, and Model A330-301, -302, -303, -321, -322, -323, -341, -342, and -343 airplanes, certificated in any category, all manufacturer serial numbers.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j)(1) of this AD. The request should include a description of changes to the required inspections that will ensure the continued operational safety of the airplane.

Subject

(d) Air Transport Association (ATA) of America Code 05.

Reason

(e) The mandatory continuing airworthiness information (MCAI) states:

* * * * *

The airworthiness limitations applicable to the Safe Life Airworthiness Limitation Items (SL ALI) are given in Airbus A330 ALS Part 1 and A340 ALS Part 1, which are approved by the European Aviation Safety Agency (EASA).

The revision 05 of Airbus A340 ALS Part 1 introduces more restrictive maintenance requirements and/or airworthiness limitations. Failure to comply with this revision constitutes an unsafe condition.

For A330 aeroplanes, this EASA AD retains the requirements of EASA AD 2010-0131, which it supersedes.

For A340 aeroplanes, this EASA AD supersedes EASA AD 2009-0192, and requires the implementation of the new or more restrictive maintenance requirements and/or airworthiness limitations as specified in Airbus A340 ALS Part 1, revision 05.

The unsafe condition is fatigue cracking, damage, and corrosion in certain structure, which could result in reduced structural integrity of the airplane.

Compliance

(f) You are responsible for having the actions required by this AD performed within the compliance times specified, unless the actions have already been done.

Restatement of Requirements of Paragraph (f)(2) of AD 2006-09-07

Airworthiness Limitations Revision

(g) For Model A330-201, -202, -203, -223, -243, -301, -302, -303, -321, -322, -323, -341, -342, and -343 airplanes: Within 3 months after June 7, 2006 (the effective date of AD 2006-09-07), revise the ALS of the Instructions for Continued Airworthiness by incorporating Section 9-1 “Life limits monitored parts” Revision 05, dated April 7, 2005, of the Airbus A330 Maintenance Planning Document, into the ALS.

New Requirements of This AD

Revise the Maintenance Program

(h) Within 3 months after the effective date of this AD: Revise the maintenance program by incorporating Airbus A330 ALS Part 1, “Safe Life Airworthiness Limitation Items,” Revision 05, dated July 29, 2010. Comply with all Airbus Safe Life ALS Part 1, “A330 Airworthiness Limitation Items,” Revision 05, dated July 29, 2010, at the times specified therein. Accomplishing the revision in this paragraph ends the requirements in paragraph (g) of this AD.

Alternative Intervals or Limits

(i) Except as provided by paragraph (j)(1) of this AD, after accomplishing the actions specified in paragraph (h) of this AD, no alternatives to the maintenance tasks, intervals, or limitations specified in paragraph (h) of this AD may be used.

FAA AD Differences

Note 2: This AD differs from the MCAI and/or service information as follows:

(1) Although the applicability in the MCAI also identifies Airbus Model A340-200 -300, -500, and -600 series airplanes; this AD only applies to Airbus Model A330-200 and -300 series airplanes. FAA AD 2011-04-06 addresses Model A340-200, -300, -500, and -600 series airplanes.

(2) The applicability in the MCAI does not specify Model A330-223F and -243F airplanes. Those models are listed in the applicability of this AD.

(3) The MCAI requires incorporating Airbus A330 ALS Part 1, “Safe Life Airworthiness Limitation Items,” Revision 04, dated January 28, 2010; however, this AD requires incorporating Airbus A330 ALS Part 1, “Safe Life Airworthiness Limitation Items,” Revision 05, dated July 29, 2010, which adds the airworthiness limitation items for Model A330-223F and -243F airplanes.

Other FAA AD Provisions

(j) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI EASA Airworthiness Directive 2010-0253, dated December 3, 2010; and Airbus A330 ALS Part 1, “Safe Life Airworthiness Limitation Items,” Revision 05, dated July 29, 2010; for related information.

Issued in Renton, Washington, on March 14, 2011.
Ali Bahrami,
Manager, Transport Airplane Directorate, Aircraft Certification Service.

[FR Doc. 2011-6644 Filed 3-21-11; 8:45 am]

BILLING CODE 4910-13-P